DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, 14th and Constitution Ave., NW, Room 2104, Washington, D.C.20230. Applications may be examined between 8:30 A.M. and 5:00 P.M. at the U.S. Department of Commerce in Room 2104.

Docket Number: 07-013. Applicant: University of Minnesota, 1987 Upper Buford Circle, St. Paul, MN 55108. Instrument: Carbon monoxide Monitor and Accessories. Manufacturer: AeroLaser, Germany. Intended Use: The instrument is intended to be used for a long-term study to determine the carbon exchange of a suburban landscape by quantifying how much carbon is exchanged between vegetation and the atmosphere and determining the relationship between the flux of carbon monoxide (emissions from combustion from vehicles, home heating, etc.) and the flux of carbon dioxide (from the above sources as well as biological activity such as photosynthesis and microbial respiration). The relationship between the above fluxes will allow quantification of the amount of CO2 due to biological activity as opposed to fossil fuel combustion. The experiment will support field-based, hands-on classes using gigabyte fiber optic real-time data streaming into the classroom. An instrument capable of measuring CO concentration fluctuations with the fastest response time is essential to the project. Application accepted by Commissioner of Customs: March 26, 2007.

Docket Number: 07-016. Applicant: The University of Alabama, 355 Rose Administration, Box 870130, Tuscaloosa, AL 35487-0150. Instrument: Fast-response NOx Analyzer. Manufacturer: Combustion Ltd., UK. Intended Use: The instrument is intended to be used to measure the intra-cycle variation of NOx production and emission. NOx is formed and destroyed in time scales on the order of several milliseconds. The instrument has near ms response (3 ms for NO, and < 10 ms for other oxides of N). This will allow measurement of changes in concentration of NOx within an engine cycle (2 revolutions for a 4-stroke cycle engine) and correlation with other intra-cycle data such as cylinder pressure or temperature. The purpose is to identify and determine mitigation methods of NOx formation in internal combustion engines. Application accepted by Commissioner of Customs: March 28, 2007.

Docket Number: 07-017. Applicant: Stanford University, P.O. Box 20410, Stanford, CA. Instrument: 1.1 Micron Wavelength Fiber Laser, Model: Boostik 5 W. Manufacturer: Koheras A/S, Denmark. Intended Use: The instrument is intended to be used to study broadband propagation through the atmosphere. The experiments include building and testing a point-to-point freespace communication link operating in the 3.8 micron waveband to verify the system design, using parametric frequency conversion of telecom-like sources. It will also be used for graduate student training. A high-power, cw, polarized laser source operating at a wavelength of exactly 1.1 micron is essential. Application accepted by Commissioner of Customs: April 9, 2007.

Docket Number: 07-026. Applicant: Virginia Polytechnic Institute and State University, Institute for Critical Technology and Applied Science, 1880 Pratt Dr., mc 0493, Blacksburg, VA 24061. Instrument: Mass Spectrometer, Model Helios 600 NanoLab. Manufacturer: FEI Company, Eindhoven, The Netherlands. Intended Use: The instrument is intended to be used in a centralized facility for creating and categorizing 3-dimensional structures at the nanometer size scale. It is equipped with an ion-beam column for ion milling, deposition and lithography, and an electron column for high-resolution lithography and imaging. In addition to nanoscale research it will be used for studies of other materials by other departments at the university. Application accepted by Commissioner of Customs: April 23,2007.Docket Number: 07-029. Applicant: University of Washington, Chemistry Department, 36 Bagley Hall, Seattle, WA 98195. Instrument: Femtosecond Laser. Manufacturer: Femtolasers Produktions, GmbH, Austria. Intended Use: The instrument is intended to be used for ultra-fast nonlinear optical far and near-field microscopic investigations of nanoscale physical phenomena of ferroelectric and semiconducting materials. Using near-field second and fourth harmonic generation, the ferroelectric domain ordering of manganites will be studied. These multiferroic materials are of great interest due to their potential for nonvolatile storage devices. Using photon echo and pump probe techniques, the electronic and vibrational properties of semiconductor nanocrystals, particularly CdSe and PdSe, will be used to study the effect of the quantum confinement on the vibronic coupling. A femtosecond laser with with pulse durations of 10 fs and below pulse duration at more than 480 mW power will be necessary for this work. Application accepted by Commissioner of Customs: May 8, 2007.

Docket Number: 07-030. Applicant: Lehigh University, 111 Research Dr., Bethlehem, PA 18015. Instrument: Low Voltage Transmission and Scanning Electron Microscope. Manufacturer: Delong Insruments A.s, Czech Republic. Intended Use: The instrument is intended to be used to detect proteins of interest (actin, synapsin and Rab3a) in nerve terminals. Immunolabeling of these proteins will be performed and the tissue will be processed for transmission electron microscopy and the samples will be examined. This unique TEM operates at a low voltage of 5 kV, which enables obtaining of high-contrast images of non-osmicated samples, which is crucial since osmication cannot be performed together with immunolabeling. The TEM is capable of both fast and gradual changes in magnification which is needed since nerve terminals are not readily found in the preparations of neuromuscular tissue being examined. Application accepted by Commissioner of Customs: May 9, 2007.

Docket Number: 07-031. Applicant: University of Notre Dame, Fitzpatric Hall, Notre Dame Indiana 46556. Instrument: Surface Roughness Analyzer. Manufacturer: Elionix, Japan. Intended Use: The instrument is intended to be used to study Al and other metal tunnel junctions, microelectromechanical systems (MEMS) related materials such as Al, silicon dioxide and nitride and silicon. New imaging systems for infrared detectors in the form of both nanoantennas and micro-spectrometers will be fabricated. The instrument will be used to image the devices formed at high magnification and also to accurately determine their surface morphology. Measurement of step-coverage of thin metal films with very high resolution is crucial for determining if the nanometer scale, overlapped metal areas are properly formed. The Elionix is essential to the work since it is the only instrument, to their knowledge, that can perform surface roughness analysis using an electron beam. Application accepted by Commissioner of Customs: May 9, 2007.

Docket Number: 07-032. Applicant: University of Missouri, Columbia, Electron Microscopy Core Room W132, Veterinary Medicine Building, 1600 East Rollins St., Columbia, Mo 65211. Instrument: Electron Microscope, Model Quanta 600 FEG. Manufacturer: FEI Company, Czech Republic. Intended Use: The instrument is intended to be used in a University Core Research Facility currently serving over 50 principal investigators campus wide. Selective topics will be in the area of nanodevices and microelectronics, nanoenergetic materials, organic LED's and nanocomposites materials; bioremediation of toxic metals and biochemistry of sulphate-reducing bacteria, characterization of biosensors, and many other diverse topics. It will also be used for student training in electron microscopy. Application accepted by Commissioner of Customs: May 15, 2007.

Faye Robinson,
Director, Statutory Import Programs Staff, Import Administration.

[FR Doc. E7-10905 Filed 6-5-07; 8:45 am]

BILLING CODE 3510-DS-S